DEPARTMENT OF THE INTERIOR

National Park Service

[NPS-WASO-NAGPRA-NPS0032918; PPWOCRADN0-PCU00RP14.R50000]

Notice of Intent To Repatriate Cultural Items: American Museum of Natural History, New York, NY

AGENCY: National Park Service, Interior.

ACTION: Notice.

SUMMARY: The American Museum of Natural History (AMNH), in consultation with the appropriate Indian Tribes or Native Hawaiian organizations, has determined that the cultural items listed in this notice meet the definition of unassociated funerary objects. Lineal descendants or representatives of any Indian Tribe or Native Hawaiian organization not identified in this notice that wish to claim these cultural items should submit a written request to the American Museum of Natural History. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the American Museum of Natural History at the address in this notice by December 6, 2021.

FOR FURTHER INFORMATION CONTACT: Nell Murphy, American Museum of Natural History, Central Park West at 79th Street, New York, NY 10024, telephone (212) 769-5837, email nmurphy@amnh.org.

SUPPLEMENTARY INFORMATION: Notice is here given in accordance with the Native American Graves Protection and Repatriation Act (NAGPRA), 25 U.S.C. 3005, of the intent to repatriate cultural items under the control of the American Museum of Natural History, New York, NY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1896, one cultural item was removed from Andrew K. Rowan Farm, Grave 1, Trench #6, Trenton, Mercer County, NJ, by Earnest Volk as part of an AMNH funded expedition. The cultural item was accessioned into the Museum's collection that same year. The one unassociated funerary object is a broken stone implement. Museum records indicate that the cultural item was removed from a grave, and artifact analysis dates the implement to the Middle Woodland Period (A.D. 200-900).

In 1897, two cultural items were removed from Andrew K. Rowan Farm, Trench #8, Grave 2, one-mile south of Trenton, Mercer County, NJ, by Earnest Volk as part of an AMNH expedition. The two cultural items were accessioned into the Museum's collection that same year. The two unassociated funerary objects are one pottery fragment and one stone implement. Museum records indicate that the two items were removed from a grave, and artifact analysis dates them to the Middle Woodland Period (A.D. 200-900).

In 1898, one cultural item was removed from A. K. Rowan Farm, in the Delaware Valley south of Trenton, Mercer County, NJ, by Earnest Volk as part of an AMNH expedition. The cultural item was accessioned into the Museum's collection that same year. The one unassociated funerary object is a ceramic piece. Museum records indicate that the ceramic piece was removed from a grave, and artifact analysis dates the implement in the Middle Woodland Period (A.D. 200-900).

The A.K. Rowan Farm lies within the Abbott Farm Historic District, a National Historic Landmark located in Lenape territory. Archeological and linguistic data indicate a cultural continuity there that extends back to the Middle Woodland Period.

In 1898, three cultural items were removed from A.K. Rowan's Farm (terrace), near old homestead field, in the Delaware Valley, Mercer County, NJ, by Earnest Volk as part of an AMNH expedition. The cultural items were accessioned into the Museum's collection that same year. The three unassociated funerary objects are three wooden posts. A representative of the Delaware Tribe identified the three wooden posts as traditional Delaware grave markers from an area known to have Late Woodland/Historic Period burials. Radiocarbon dating of one of the posts (done at the request of the Delaware Nation, Oklahoma; Delaware Tribe of Indians, Oklahoma; and the Stockbridge-Munsee Community, Wisconsin) indicates that all three posts likely date to the 18th century, a time during which the Delaware occupied the Abbott Farm area.

Determinations Made by the American Museum of Natural History

Officials of the American Museum of Natural History have determined that:

• Pursuant to 25 U.S.C. 3001(3)(B), the seven cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Delaware Nation, Oklahoma; Delaware Tribe of Indians, Oklahoma; and the Stockbridge-Munsee Community, Wisconsin (hereafter referred to as “The Tribes”).

Additional Requestors and Disposition

Lineal descendants or representatives of any Indian Tribe or Native Hawaiian organization not identified in this notice that wish to claim these cultural items should submit a written request with information in support of the claim to Nell Murphy, American Museum of Natural History, 200 Central Park West, New York, NY 10024, telephone (212) 769-5837, email nmurphy@amnh.org, by December 6, 2021. After that date, if no additional claimants have come forward, transfer of control of the unassociated funerary objects to The Tribes may proceed.

The American Museum of Natural History is responsible for notifying The Tribes that this notice has been published.

Dated: October 23, 2021.
Melanie O'Brien,
Manager, National NAGPRA Program.

[FR Doc. 2021-24047 Filed 11-3-21; 8:45 am]

BILLING CODE 4312-52-P